DEPARTMENT OF STATE

[Public Notice 10397]

Title: Bureau of Political-Military Affairs; Statutory Debarment Under the Arms Export Control Act and the International Traffic in Arms Regulations

ACTION: Notice.

SUMMARY: Notice is hereby given that the Department of State has imposed statutory debarment under the International Traffic in Arms Regulations (“ITAR”) on persons convicted of violating, or conspiracy to violate, Section 38 of the Arms Export Control Act (AECA).

DATES: Debarment imposed as of April 25, 2018.

FOR FURTHER INFORMATION CONTACT: Jae E. Shin, Acting Chief Compliance and Civil Enforcement, Office of Defense Trade Controls Compliance, Bureau of Political-Military Affairs, Department of State. (202) 632-2107.

SUPPLEMENTARY INFORMATION: Section 38(g)(4) of the AECA, 22 U.S.C. 2778(g)(4), restricts the Department of State from issuing licenses for the export of defense articles or defense services where the applicant, or any party to the export, has been convicted of violating certain statutes, including section 38 of the AECA. The statute permits the President to make certain exceptions on a case-by-case basis. Section 127.7(b) of the ITAR also provides for “statutory debarment” of any person who has been convicted of violating or conspiring to violate the AECA. Under this policy, persons subject to statutory debarment are prohibited from participating directly or indirectly in any activities that are regulated by the ITAR.

Statutory debarment is based solely upon conviction in a criminal proceeding, conducted by a United States court, and as such the administrative debarment procedures outlined in Part 128 of the ITAR are not applicable.

It is the policy of the Department of State that statutory debarment lasts for a three year period following conviction. Unless export privileges are reinstated, however, the person remains debarred. Reinstatement is not automatic, and in all cases the debarred person must submit a request for reinstatement to the Department of State and be approved for reinstatement before engaging in any activities subject to this subchapter.

Department of State policy permits debarred persons to apply to the Director, Office of Defense Trade Controls Compliance, for reinstatement beginning one year after the date of the debarment. Any decision to grant reinstatement can be made only after the statutory requirements of Section 38(g)(4) of the AECA have been satisfied.

Certain exceptions, known as transaction exceptions, may be made to this debarment determination on a case-by-case basis. However, such an exception would be granted only after a full review of all circumstances, paying particular attention to the following factors: Whether an exception is warranted by overriding U.S. foreign policy or national security interests; whether an exception would further law enforcement concerns that are consistent with the foreign policy or national security interests of the United States; or whether other compelling circumstances exist that are consistent with the foreign policy or national security interests of the United States, and that do not conflict with law enforcement concerns. Even if exceptions are granted, the debarment continues until subsequent reinstatement.

Pursuant to Section 38(g)(4) of the AECA and Section 127.7(c) of the ITAR, the following persons, having been convicted in a U.S. District Court, are statutorily debarred as of the date of this notice (Name; Date of Judgment; Judicial District; Case No.; Month/Year of Birth):

(1) Edwin Acety; November 10, 2016; Southern District of New York; 1:15-cr-00369; November 1975.

(2) Jesus Alberto Acosta; September 28, 2016; Southern District of Texas; 7:16-cr-00543; September 1968.

(3) William Ali; July 27, 2017; Western District of Washington; 2:16-cr-00142; August 1978.

(4) AMA United Group; January 13, 2017; Eastern District of New York; 1:13-cr-00612.

(5) Syed Vaqar Ashraf (aka Vaqar A Jaffery; Vaqar-A-Jaffery); September 2, 2016; District of Arizona; 4:15-cr-01431; January 1945.

(6) Mahmoud Abdel-Ghani Mohammad Assaf; February 2, 2016; Middle District of Florida; 8:14-cr-00307.

(7) Alexandre Astakhov; May 11, 2015; Eastern District of Pennsylvania; 2:12-cr-00572; February 1985.

(8) Omar Alejandro Avilez-Mancinas; April 13, 2017; District of Arizona; 4:16-cr-02272; August 1995.

(9) Oguzhan Aydin; April 5, 2016; Northern District of Georgia; 1:12-cr-00221; June 1975.

(10) Jose Abraham Benavides-Cira; June 1, 2016; Southern District of Texas; 7:15-cr-00281; July 1984.

(11) Jose Luis Benavides-Cira; December 11, 2015; Southern District of Texas; 7:15-cr-00281; August 1982.

(12) Marcelo Bettim; May 31, 2017; Southern District of Flordia; 1:17-cr-20134; October 1970.

(13) Su Bin; July 18, 2016; Central District of California; 8:14-cr-00131; February 1960.

(14) Sergey Boltutskiy (aka Siarhei Baltutski); December 19, 2013; Eastern District of Pennsylvania; 2:11-cr-00553.

(15) Oliver Bouzas-Delie; December 11, 2015; Southern District of Texas; 7:15-cr-00281; October 1983.

(16) Alhaji Boye; March 29, 2017; Eastern District of North Carolina; 5:16-cr-00146; December 1970.

(17) Louis Joseph Brothers; March 2, 2016; Eastern District of Kentucky; 2:14-cr-00035; May 1952.

(18) Steven Paul Browning; April 4, 2016; Eastern District of North Carolina; 7:15-cr-00059; June 1986.

(19) Alex Bryukhov; April 8, 2016; Southern District of New York; 1:15-cr-00369; August 1969.

(20) Pheerayuth Burden (aka Siriwongs Burden; Pheerayuth Chan; Tony Burden); March 8, 2017; District of Columbia; 1:14-cr-00069; December 1969.

(21) Mike Mangao Cabatingan; April 13, 2015; Central District of California; 2:10-cr-00184; September 1953.

(22) Bo Cai; April 23, 2015; District of New Mexico; 1:13-cr-04044; August 1985.

(23) Wentong Cai; April 28, 2015; District of New Mexico; 1:13-cr-04044; December 1984.

(24) Cassandra Camacho; October 10, 2014; Southern District of Texas; 7:14-cr-00421; August 1989.

(25) Benjamin James Cance; January 15, 2016; Western District of Michigan; 1:15-cr-00141; December 1984.

(26) Kurt Carter; December 16, 2008; District of Maine; 1:07-cr-00054; March, 1965.

(27) Jose Roberto Celaya-Mendez; June 16, 2014; District of Arizona; 4:14-cr-00036; May 1962.

(28) Juan Jose Cesena-Espericueta; May 19, 2015; Southern District of Texas; 7:14-cr-01805; October 1982.

(29) Huan Ling Chang (aka Alice Chang); January 6, 2015; District of New Jersey; 2:14-cr-00548; December 1970.

(30) Kan Chen; June 30, 2016; District of Delaware; 1:16-cr-00011; March 1990.

(31) Rodrigo Chico-Rodriguez; April 21, 2016; Southern District of Texas; 7:14-cr-01618; August 1988.

(32) Carlos Alberto Dominguez Chicote (aka Carlos Alberto Dominguez-Chicote); May 9, 2016; District of Arizona; 2:14-cr-01632; August 1967.

(33) See Kee Chin; November 10, 2014; Western District of Washington; 2:14-cr-00043; December 1957.

(34) Wei Jiun Chu; August 25, 2014; District of Arizona; 2:13-cr-01524; September 1961.

(35) Jose Orence Cocchiola; August 20, 2014; Southern District of Florida; 1:14-cr-20216; January 1986.

(36) Luis Armando Collins-Avila; September 25, 2014; District of Arizona; 4:13-cr-01376; July 1971.

(37) Demetrio Sebastian Cortez-Ordaz; March 28, 2014; Eastern District of California; 1:11-cr-00376.

(38) Michael Curlett; August 19, 2016; Middle District of Tennessee; 3:11-cr-00015; March 1967.

(39) Irina Cvetkovic; April 26, 2017; District of Arizona; 4:14-cr-01362; March 1959.

(40) Jian Dai; September 25, 2014; Central District of California; 2:14-cr-00184; October 1985.

(41) Joseph Debose; October 29, 2013; Eastern District of New York; 1:12-cr-00271; July 1982.

(42) Heriberto Del Fierro-Moreno; February 28, 2017; Southern District of Texas; 7:16-cr-00712; May 1980.

(43) Dane Francisco Delgado; December 5, 2014; Southern District of Texas; 1:14-cr-00008. February 1976.

(44) Ronald Alexander Dobek; September 10, 2014; Eastern District of Wisconsin; 2:13-cr-00231; May 1975.

(45) Salatiel Duran-Reyes; June 18, 2014; Southern District of Texas; 7:13-cr-01800; January 1971.

(46) Gilbert Oscar Elian; November, 3, 2016; Western District of Michigan; 1:15-cr-00149; November 1960.

(47) Everardo Abraham Escamilla-Salas; May 24, 2016; Southern District of Texas; 1:15-cr-00913; September 1987.

(48) Juan Jose Estrada; August 5, 2014; Southern District of Texas; 7:13-cr-01584; December 1968.

(49) Papa Faal; May 13, 2016; District of Minnesota; 0:15-cr-00028; July 1968.

(50) Eyad Farah; December 15, 2015; Middle District of Florida; 8:14-cr-00382; September 1973.

(51) Alexander Fishenko; August 29, 2016; Eastern District of New York; 1:12-cr-00626; March 1966.

(52) Robert Herman Fleischer; August 4, 2017; District of Arizona; 4:16-cr-02273; October 1995.

(53) Aurel Fratila; September 16, 2013; Southern District of California; 3:06-cr-02255; October 1971.

(54) Cruz Moises Garcia; July 1, 2014; Southern District of Texas; 1:13-cr-00897.

(55) Hector De Jesus Garcia; November 19, 2014; Southern District of Texas; 7:13-cr-01801; December 1993.

(56) Edgar Garza-Sanchez; April 3, 2017; Southern District of Texas; 7:16-cr-00708; June 1997.

(57) Ellias Abdl Halim Ghandi; August 4, 2016; Eastern District of Virginia; 1:16-cr-00117; September 1988.

(58) Sam Rafic Ghanem; August 14, 2015; District of Maryland; 8:14-cr-00008; February 1970.

(59) Joseph Esequiel Gonzalez; September 16, 2016; Southern District of Texas; 7:16-cr-00150.

(60) Ramon Gonzalez-Azuara; May 30, 2015; Southern District of Texas; 7:14-cr-00322.

(61) Javier Gonzalez; June 11, 2014; Southern District of Texas; 1:13-cr-00768.

(62) Josafat Gonzalez-Rodriguez; December 14, 2016; Southern District of Texas; 7:15-cr-01591; May 1986.

(63) Jose Luis Gonzalez-Salinas; October 3, 2015; Southern District of Texas; 7:13-cr-00004; November 1972.

(64) Christopher M. Gray; October 15, 2013; District of Columbia; 1:13-cr-00107.

(65) Yhoshua Guzman; May 21, 2015; Southern District of Texas; 7:14-cr-01322; September 1995.

(66) Dennis Haag; October 2, 2014; Eastern District of Michigan; 2:14-cr-20089; June 1955.

(67) Mark Anthony Hammond; October 3, 2016; District of Arizona; 4:15-cr-01284; April 1980.

(68) Roberto Carlo Hasbun-Villarreal; October 5, 2013; Southern District of Texas; 7:11-cr-01581; October 1973.

(69) Philip Chaohui He (aka Philip Hope; Philip Chaohui); December 20, 2013; District of Colorado; 1:11-cr-00519; December 1969.

(70) Mark Henry; November 23, 2015; Eastern District of New York; 1:13-cr-00091; December 1963.

(71) Adrian Manuel Hernandez; October 13, 2015; District of Arizona; 2:15-cr-00189.

(72) Ernesto Hernandez; March 2, 2015; Southern District of Texas; 7:14-cr-00757.

(73) Adam Al Herz; October 18, 2016; Northern District of Iowa; 1:15-cr-00054; January 1985.

(74) Ali Afif Al Herz; November 1, 2016; Northern District of Iowa; 1:15-cr-00054; February 1965.

(75) Bassem Afif Herz; December 12, 2016; Northern District of Iowa; 1:15-cr-00054; January 1985.

(76) Elmer Hill; August 19, 2016; Middle District of Tennessee; 3:11-cr-00015; July 1947.

(77) Justin Gage Jangraw; November, 21, 2014; District of Columbia; 1:14-cr-00174; January 1980.

(78) Gregory Allen Justice; September 19, 2017; Central District of California; 2:16-cr-00499; October 1966.

(79) David Ray Kelley; February 10, 2015; District of Maryland; 1:13-cr-00588; January 1969.

(80) Amanullah Khan (aka Anthony Fernandez; Steven Joseph; Robert Joseph; Gerald Jousuf; Solomon Jousuf; Amanullah Kahn; Aman Khan; Aman Ullah Khan; Amanulla Khan; Amanullah J. Khan; Armand Khan; George Paal; Joseph Salmon; Jousuf Solomon; Yousuf Solomon; Joseph Sulman; Solomon Yousef); December 1, 2005; Central District of California; 8:04-cr-00152.

(81) Mozaffar Khazaee (aka Mozzaffar Khazaee; Arash Khazaie); October 27, 2015; District of Connecticut; 3:14-cr-00009; August 1954.

(82) Song Il Kim; February 29, 2016; District of Utah; 2:15-cr-00417.

(83) Jean Baptiste Kingery; September 20, 2016; District of Arizona; 2:13-cr-01607; October 1970.

(84) Siripong Klongsirithaworn; February 10, 2015; Western District of Washington; 2:14-cr-00220; January 1986.

(85) Hamza Kolsuz; October 7, 2016; Eastern District of Virginia; 1:16-cr-00053; January 1973.

(86) Roman Georgiyevich Kvinikadze; January 21, 2014; District of Wyoming; 1:13-cr-00178; December 1981.

(87) Nestor Leal-Cedillo; October 10, 2014; Southern District of Texas; 7:14-cr-00421; July 1990.

(88) Nares Lekhakul; January 24, 2014; Western District of Washington; 2:13-cr-00030; May 1977.

(89) Naris Lekhakul; January 24, 2014; Western District of Washington; 2:13-cr-00032; October 1970.

(90) Zhifu Lin; March 11, 2014; Eastern District of New York; 1:12-cr-00271; September 1986.

(91) Yu Long; June 27, 2017; District of Connecticut; 3:16-cr-00229; October 1977.

(92) Robert Luba; April 25, 2016; District of New Jersey; 3:13-cr-00693; July 1966.

(93) Guadalupe Edgar Lucio-Amador; October 27, 2014; Southern District of Texas; 1:14-cr-00097; June 1978.

(94) Kamran Ashfaq Malik; July 8, 2015; District of Maryland; 8:14-cr-00075; November 1978.

(95) Wenxia Man; August 19, 2016; Southern District of Florida; 0:14-cr-60195; December 1970.

(96) Rex Gene Maralit; March 27, 2015; Eastern District of New York; 1:13-cr-00534; March 1979.

(97) Wilfredo Maralit; March 27, 2015; Eastern District of New York; 1:13-cr-00534; March 1965.

(98) David L. Maricola; September 2, 2016; District of Massachusetts; 4:15-cr-40023; October 1955.

(99) Enrique Medina; December 9, 2014; Southern District of Texas; 1:14-cr-00008; November 1978.

(100) Genaro Mejia; April 28, 2017; Southern District of Florida; 1:16-cr-20224.

(101) Rosa Maria Melendez-Jimenez; December 1, 2015; Southern District of Texas; 1:15-cr-00168; August 1962.

(102) Guiseppe Luciano Menegazzo-Carrasquel; August 20, 2013; District of Arizona; 2:10-cr-01462; May 1964.

(103) Daniel Miranda-Mendoza; September 1, 2015; Southern District of Texas; 7:14-cr-01405; March 1994.

(104) Ambar Esthela Morales; March 23, 2016; District of Arizona; 4:15-cr-00996; April 1992.

(105) Manuel Morales; June 1, 2016; District of Arizona; 4:15-cr-00593.

(106) Jesus Morales-Reyes; May 24, 2016; Southern District of Texas; 1:15-cr-00913; December 1980.

(107) Jose Ricardo Nacif Cury; November 24, 2014; Southern District of Florida; 1:14-cr-20501; April 1971.

(108) Luis Alberto Najera-Citalan; June 23, 2015; Southern District of Texas; 7:14-cr-01805; March 1986.

(109) Netria Corporation; January 13, 2015; District of New Hampshire; 1:14-cr-00059.

(110) Thach Hoang Nguyen; May 14, 2015; Eastern District of Virginia; 1:14-cr-00426; June 1956.

(111) Solomon Benson Nkwocha; November 3, 2016; District of South Carolina; 2:14-cr-00860; April 1960.

(112) Yasser Ahmad Obeid; December 22, 2014; Middle District of Florida; 8:14-cr-00307; September 1994.

(113) Jose Antonio Ortiz-Lopez; May 30, 2015; Southern District of Texas; 7:14-cr-00322.

(114) Yahor Osin (aka Egor Osin); March 7, 2014; Eastern District of Pennsylvania; 2:11-cr-00449; October 1982.

(115) Jung Shic Park (aka Alex Park); November 30, 2015; District of New Jersey; 2:14-cr-00441; July 1984.

(116) Paweena Pechner; July 18, 2014; District of New Hampshire; 1:13-cr-00116; August 1979..

(117) Miguel Angel Perez; January 22, 2014; Western District of Texas; 4:13-cr-00432.

(118) Erik Antonio Perez-Bazan; October 10, 2014; Southern District of Texas; 7:13-cr-01011; December 1985.

(119) Hunter Perry; July 28, 2016; Western District of Kentucky; 3:15-cr-00142; March 1982.

(120) Luis Donaldo Pina; February 13, 2017; Southern District of Texas; 7:16-cr-00070; April 1995.

(121) Peter Steve Plesinger; April 26, 2017; District of Arizona; 4:14-cr-01362; December 1961.

(122) Volodomyr Ponomarenko; May 21, 2013; Eastern District of New York; 1:12-cr-00254.

(123) Alexander Posobilov; March 22, 2017; Eastern District of New York; 1:12-cr-00626.

(124) Joel Prado, Jr.; February 23, 2017; Southern District of Texas; 7:16-cr-00712; August 1980.

(125) Precision Image Corporation, (aka Precision Industries, Inc.; CK Enterprises, Inc.); October 28, 2013; Western District of Washington; 2:13-cr-00226.

(126) Kolar Rahman Anees Ur Rahman; January 31, 2017; District of Utah; 2:15-cr-00714; May 1971.

(127) Armando Ramirez-Vazquez; July 13, 2015; Southern District of Texas; 1:15-cr-00167; July 1983.

(128) Javier Nenos Rea; January 13, 2015; Southern District of Florida; 1:14-cr-20646; March 1982.

(129) Romulo Arca Reclusado; December 31, 2013; Central District of California; 2:10-cr-00184; September 1950.

(130) Ismael Reta; June 19, 2015; Southern District of Texas; 7:14-cr-01618; July 1986.

(131) Arjyl Revereza; March 4, 2014; Central District of California; 2:12-cr-00037; October 1985.

(132) Earl Henry Richmond; December 2, 2016; District of Arizona; 4:14-cr-01362.

(133) Hannah Robert; April 15, 2016; District of New Jersey; 3:13-cr-00671; July 1965.

(134) Tul Robroo (aka Tul Robrhoo); November 10, 2016; Southern District of Texas; 4:14-cr-00015; October 1974.

(135) Roy Wayne Roby; April 28, 2014; District of Arizona; 2:10-cr-01462; March 1958.

(136) Marleen Rochin; November 16, 2015; District of Arizona; 2:15-cr-00189; November 1986.

(137) Juan Ivan Rodriguez; October 10, 2014; Southern District of Texas; 7:14-cr-00421; August 1981.

(138) Gregorio Rodriguez-Aranda; February 18, 2014; Southern District of Texas; 7:13-cr-01441; November 1988.

(139) Edgar Alejandro Salazar; November 6, 2013; Southern District of Texas; 7:13-cr-00170.

(140) Ernesto Salgado-Guzman; May 7, 2014; Eastern District of California; 1:11-cr-00376; November 1967.

(141) Maria Luisa Sanchez-Lopez; February 18, 2014; Southern District of Texas; 7:13-cr-01441; August 1989.

(142) Jorge Santana, Jr.; May 15, 2014; Southern District of Texas; 1:13-cr-00768; October 1978.

(143) Kirby C. Santos; November 2, 2016; District of New Jersey; 1:15-cr-00525; March 1977.

(144) Arnold See, Jr.; August 19, 2016; Middle District of Tennessee; 3:11-cr-00015; August 1957.

(145) Charles Shearon; August 19, 2016; Middle District of Tennessee; 3:11-cr-00015; July 1956.

(146) Hui Sheng Shen (aka Charlie Shen); January 9, 2015; District of New Jersey; 2:14-cr-00549; December 1966.

(147) Robert J. Shubert, Sr.; October 22, 2014; Middle District of Georgia; 5:13-cr-00050; April 1965.

(148) Norma Angelica Rodriguez Silvestre; October 5, 2016; District of Arizona; 4:15-cr-02066; May 1991.

(149) Nutveena Sirirojnananont; August 26, 2014; District of New Hampshire; 1:13-cr-00115; August 1973.

(150) Stephen Edward Smith; April 14, 2017; District of Arizona; 4:14-cr-01362; January 1954.

(151) Julio Cesar Solis-Castilleja; July 1, 2014; Southern District of Texas; 1:13-cr-00897; October 1969.

(152) John Francis Stribling; July 6, 2016; Eastern District of Virginia; 2:16-cr-00007; July 1960.

(153) Sergio Santiago de Leon Syjuco; February 27, 2014; Central District of California; 2:12-cr-00037; November 1986.

(154) Daniel Tijerina-Salinas; May 30, 2015; Southern District of Texas; 7:14-cr-00322; June 1991.

(155) Gerardo Trevino-Moncivais; November 17, 2016; Southern District of Texas; 7:16-cr-00802; November 1967.

(156) Veronica Trujillo; August 11, 2017; District of Arizona; 4:16-cr-01851; November 1973.

(157) Cesar Paolo Ubaldo; February 27, 2014; Central District of California; 2:12-cr-00037; July 1985.

(158) Luis Antonio Urdaneta Pozo; June 27, 2017; Southern District of Florida; 1:17-cr-20126.

(159) Dmitry Ustinov; October 10, 2014; District of Delaware; 1:13-cr-00034; June 1966.

(160) Manuel Valencia-Hermosillo; October 13, 2017; District of Arizona; 4:16-cr-01972; August 1995.

(161) Ricardo Humberto Varela; February 16, 2016; Southern District of Texas; 7:15-cr-00281; September 1983.

(162) Alberto Veroneze; November 24, 2014; Southern District of Florida; 1:14-cr-20501; September 1974.

(163) Jose Edmundo Villa-Bon; January 15, 2016; District of Arizona; 4:15-cr-01383; June 1969.

(164) Wing-On LLC; July 11, 2017; District of Columbia; 1:14-cr-00069.

(165) Yue Wu; August 25, 2015; Western District of Washington; 2:14-cr-00306; August 1973.

(166) Bin Yang, (aka Raymond Yang); November 19, 2013; Southern District of California; 3:12-cr-00165; January 1981.

(167) Kitibordee Yindeear-Rom (aka Kitibordee Yindeer-Rom); April 2, 2015; District of Columbia; 1:14-cr-00069; March 1986.

(168) Sarah Majid Zeaiter; October 17, 2016; Northern District of Iowa; 1:15-cr-00054; February 1991.

As noted above, at the end of the three-year period following the date of this notice, the above named persons/entities remain debarred unless export privileges are reinstated.

Debarred persons are generally ineligible to participate in activity regulated under the ITAR (see e.g., sections 120.1(c) and (d), and 127.11(a)). Also, under Section 127.1(d) of the ITAR, any person who has knowledge that another person is subject to debarment or is otherwise ineligible may not, without disclosure to and written approval from the Directorate of Defense Trade Controls, participate, directly or indirectly, in any ITAR-controlled transaction where such ineligible person may obtain benefit therefrom or have a direct or indirect interest therein.

This notice is provided for purposes of making the public aware that the persons listed above are prohibited from participating directly or indirectly in activities regulated by the ITAR, including any brokering activities and any export from or temporary import into the United States of defense articles, technical data, or defense services in all situations covered by the ITAR. Specific case information may be obtained from the Office of the Clerk for the U.S. District Courts mentioned above and by citing the court case number where provided.

Tina S. Kaidanow,
Principal Deputy Assistant Secretary, Bureau of Political-Military Affairs, Department of State.

[FR Doc. 2018-08684 Filed 4-24-18; 8:45 am]

BILLING CODE 4710-25-P